DEPARTMENT OF HEALTH AND HUMAN SERVICES

Centers for Disease Control and Prevention

Disease, Disability, and Injury Prevention and Control Special Emphasis Panel: Division of Global AIDS (DGA) International Laboratory Branch Review Panel, and Extramural Review of Intramural Operational Research

In accordance with section 10(a)(2) of the Federal Advisory Committee Act (Pub. L. 92-463), the Centers for Disease Control and Prevention (CDC) announces a meeting of the aforementioned Special Emphasis Panel.

Time And Date: 8:30 a.m.-5 p.m., July 11, 2007 (Closed).

Place: CDC Roybal Campus, 1600 Clifton Road, Bldg. 19, Conference Room 232, Auditorium B2, Atlanta, GA 30333, Telephone (404) 639-8838.

Status: The meeting will be closed to the public in accordance with provisions set forth in section 552b(c)(4) and (6), Title 5 U.S.C., and the Determination of the Director, Management Analysis and Services Office, CDC, pursuant to Public Law 92-463.

Matters To Be Discussed: The meeting will include the review, discussion, and evaluation of the “DGA International Laboratory Branch Review Panel, and the Extramural Review of Intramural Operational Research.”

Contact Person for More Information: Deborah Birx, Global AIDS Program, Director, CDC, Corporate Square, Bldg. 1, Room 1506, Mail Stop E-04, Atlanta, GA 30329, Telephone (404) 639-6137.

The Director, Management Analysis and Services Office, has been delegated the authority to sign Federal Register notices pertaining to announcements of meetings and other committee management activities, for both CDC and the Agency for Toxic Substances and Disease Registry.

Dated: June 6, 2007.
Elaine L. Baker,
Acting Director, Management Analysis and Services Office, Centers for Disease Control and Prevention.

[FR Doc. E7-11280 Filed 6-11-07; 8:45 am]

BILLING CODE 4163-18-P